DEPARTMENT OF THE INTERIOR

National Park Service

[NPS-WASO-NAGPRA-17723; PPWOCRADN0-PCU00RP14.R50000]

Notice of Intent To Repatriate Cultural Items: Minnesota Historical Society, St. Paul, MN

AGENCY: National Park Service, Interior.

ACTION: Notice.

SUMMARY: The Minnesota Historical Society, in consultation with the appropriate Indian tribes or Native Hawaiian organizations, has determined that the cultural items listed in this notice meet the definition of sacred objects. Lineal descendants or representatives of any Indian tribe or Native Hawaiian organization not identified in this notice that wish to claim these cultural items should submit a written request to the Minnesota Historical Society. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Minnesota Historical Society at the address in this notice by April 15, 2015.

ADDRESSES: Leah Bowe, Minnesota Historical Society, 345 W. Kellogg Blvd., St. Paul, MN 55102, telephone (651) 259-3255, email leah.bowe@mnhs.org.

SUPPLEMENTARY INFORMATION: Notice is here given in accordance with the Native American Graves Protection and Repatriation Act (NAGPRA), 25 U.S.C. 3005, of the intent to repatriate cultural items under the control of the Minnesota Historical Society, St. Paul, MN, that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1926, 57 cultural items, identified as a set of Midewiwin medicines, were removed from a cave at Crane Lake in St. Louis County, MN. The objects were discovered and removed by a group of men canoeing on the lake who took shelter in the cave during a storm. The objects (called the Crane Lake Cache by the Minnesota Historical Society) were transferred to the Minnesota Historical Society in 1927.

In the near 90 years since their accession, some parts of the Crane Lake Cache have gone missing, and the current number of objects in the collection is 54. The 54 sacred objects still extant that comprise the Crane Lake Cache are: 4 birch bark scrolls; 3 birch bark disks; 1 wooden disk; 1 birch bark container for medicine; 1 can rattle; 8 invitation bird quills; 1 shooting diagram; 1 snakeskin bundle; the fragments of 1 water drum; 15 individual packages of medicines; 1 bear claw; 6 shells; 2 quartz crystals; 1 nut; 1 ceramic object; 1 otolith; 5 glass beads; and 1 wooden container for medicines. The missing items are 1 sucking tube and 2 packages of medicine.

Consultation with the Bois Forte Band (Nett Lake) of the Minnesota Chippewa Tribe, Minnesota, confirmed both that these materials fit the definition of sacred objects under NAGPRA, and that Crane Lake was within the boundaries of the traditional property of the Bois Forte Band.

In 1987, the Minnesota Historical Society purchased the Nett Lake War Charm Necklace at Sotheby's Auctions. This object was identified as such at auction by the seller. Further provenance is unavailable for this object.

Consultation with Bois Forte Band (Nett Lake) of the Minnesota Chippewa Tribe, Minnesota, confirmed both that this object fit the definition of a sacred object under NAGPRA, and that Nett Lake was within the boundaries of the traditional property of the Bois Forte Band.

Determinations Made by the Minnesota Historical Society

Officials of the Minnesota Historical Society have determined that:

• Pursuant to 25 U.S.C. 3001(3)(C), the 55 cultural items described above are specific ceremonial objects needed by traditional Native American religious leaders for the practice of traditional Native American religions by their present-day adherents.

• Pursuant to 25 U.S.C. 3001(2), there is a relationship of shared group identity that can be reasonably traced between the sacred objects and the Bois Forte Band (Nett Lake) of the Minnesota Chippewa Tribe, Minnesota.

Additional Requestors and Disposition

Lineal descendants or representatives of any Indian tribe or Native Hawaiian organization not identified in this notice that wish to claim these cultural items should submit a written request with information in support of the claim to Leah Bowe, Minnesota Historical Society, 345 W. Kellogg Blvd., St. Paul, MN 55102, telephone (651) 259-3255, email leah.bowe@mnhs.org, by April 15, 2015. After that date, if no additional claimants have come forward, transfer of control of the sacred objects to the Bois Forte Band (Nett Lake) of the Minnesota Chippewa Tribe, Minnesota, may proceed.

The Minnesota Historical Society is responsible for notifying the Bois Forte Band (Nett Lake) of the Minnesota Chippewa Tribe, Minnesota, that this notice has been published.

Dated: February 23, 2015.
Melanie O'Brien,
Acting Manager, National NAGPRA Program.

[FR Doc. 2015-05979 Filed 3-13-15; 8:45 am]

BILLING CODE 4312-50-P